DEPARTMENT OF ENERGY

Federal Energy Regulatory Commission

[Docket No. CP01-105-000]

El Paso Natural Gas Company; Notice of Request Under Blanket Authorization

March 20, 2001.

Take notice that on March 13, 2001, El Paso Natural Gas Company (El Paso), a Delaware Corporation, whose address is Post Office Box 1492, El Paso, Texas 79978, filed a request with the Commission in Docket No. CP01-105-000, pursuant to section 157.205 and 157.216(b) of the Commission's Regulations under the Natural Gas Act (NGA) for authorization to abandon by sale and conveyance to Southwest Gas Corporation (Southwest), certain pipeline facilities authorized in blanket certificate issued in Docket Nos. CP82-435-000 and CP88-433-000, all as more fully set forth in the request on file with the Commission and open to public inspection. This filing may be viewed on the web at http://www.ferc.fed.us/online/rims.htm (call 202-208-2222 for assistance.

El Paso Natural Gas Company proposes to abandon by sale and conveyance to Southwest Gas Corporation Line Nos. 2130, 2102 and 2041, associated taps and the related gas service they provide, located in La Paz and Maricopa Counties, Arizona. El Paso states that over the succeeding years, both Parker and Phoenix have experienced tremendous growth in their respective populations as additional residential and commercial customers have located in the State of Arizona. This growth has extended to areas where El Paso's facilities are located. El Paso reports that Southwest has offered to purchase Line Nos. 2130, 2102, 2041, and the associated taps, with appurtenances. El Paso states that the sale would permit the facilities to be integrated into Southwest's local distribution system and that Southwest has agreed to maintain and operate the facilities.

Any questions regarding the application may be directed to:

Robert T. Tomlinson, Vice President and General Counsel, El Paso Natural Gas Company, Post Office Box 1492, El Paso, Texas 79978, Telephone: (915) 496-2600, Facsimile: (915) 496-5008

Judy A. Heineman, Director, Regulatory Affairs, El Paso Natural Gas Company, Post Office Box 1492, El Paso, Texas 79978, Telephone: (915) 496-2600, Facsimile: (915) 496-2122

Michael D. Moore, Director, Federal Agency Relations, El Paso Corporation, 601 13th Street, NW., Suite 850 South, Washington, DC 20005, Telephone: (202) 662-4310, Facsimile: (202) 662-4315

G. Mark Cook, Associate General Counsel—Pipelines, El Paso Corporation, 2000 M Street, NW., Suite 300, Washington, DC 20006, Telephone: (202) 331-4619, Facsimile: (202) 331-4617

Any person or the Commission's staff may, within 45 days after the Commission has issued this notice, file pursuant to Rule 214 of the Commission's Procedure Rules (18 CFR 385.214) a motion to intervene or notice of intervention and pursuant to section 157.205 of the Regulations under the NGA (18 CFR 157.205) a protest to the request. If no protests is filed within the allowed time, the proposed activity shall be deemed to be authorized effective the day after the time allowed for filing a protest. If a protest is filed and not withdrawn within 30 days after the time allowed for filing a protest, the instant request shall be treated as an application for authorization pursuant to section 7 of the NGA. Comments, protests and interventions may be filed electronically via the internet in lieu of paper. See, 18 CFR 385.2001(a)(1)(iii) and the instructions on the Commission's web site at http://www.ferc.fed.us/efi/doorbell.htm.

David P. Boergers,
Secretary.

[FR Doc. 01-7363 Filed 3-23-01; 8:45 am]

BILLING CODE 6717-01-M